DEPARTMENT OF ENERGY

Federal Energy Regulatory Commission

[Project No. 943-102]

Public Utility District No. 1 of Chelan County; Notice of Application for Amendment of License and Soliciting Comments, Motions To Intervene, and Protests

October 4, 2007.

Take notice that the following hydroelectric application has been filed with the Commission and is available for public inspection:

a. Application Type: Non-Project Use of Project Lands and Waters.

b. Project No: 943-102.

c. Date Filed: September 14, 2007.

d. Applicant: Public Utility District No. 1 of Chelan County.

e. Name of Project: Rock Island Hydroelectric Project.

f. Location: The project is located on the Columbia River in Chelan County, Washington. The project does not occupy any Federal or tribal lands.

g. Filed Pursuant to: Federal Power Act, 16 U.S.C. 791(a)-825(r).

h. Applicant Contact: Michelle Smith, License and Natural Resource Compliance Manager, Public Utility District No. 1 of Chelan County, P.O. Box 1231, Wenatchee, WA 98807-1231. Phone: (888) 663-8121, Ext. 4180.

i. FERC Contact: Any questions on this notice should be addressed to Jon Cofrancesco at (202) 502-8951 or by e-mail: jon.cofrancesco@ferc.gov.

j. Deadline for filing comments and/or motions: October 26, 2007.

All documents (original and eight copies) should be filed with: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of the Application: The Public Utility District No. 1 of Chelan County, Washington, licensee of the Rock Island Hydroelectric Project, has filed an application seeking authorization from the Federal Energy Regulatory Commission to grant a permit to Dr. Thomas Hurst for a 12-slip community dock for a 13 lot, 20-acre residential subdivision located on upland property adjacent to the project. The proposed 1,444 square-foot floating dock includes a ramp, a main float, and one T-section with six fingers on each side; extends 130 feet from the ordinary high water mark; and is located approximately four miles upriver from Rock Island dam in Chelan County, Washington.

l. Location of the Application: This filing is available for review at the Commission or may be viewed on the Commission's Web site at http://www.ferc.gov, using the “eLibrary” link. Enter the docket number excluding the last three digits in the docket number field to access the document. You may also register online at http://www.ferc.gov/docs-filing/esubscription.asp to be notified via e-mail of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, OR “MOTION TO INTERVENE”, as applicable, and the Project Number of the particular application to which the filing refers.

p. Agency Comments—Federal, state, and local agencies are invited to file comments on the application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-20284 Filed 10-15-07; 8:45 am]

BILLING CODE 6717-01-P